DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioners' arguments in favor of relief.

Battle Ground, Yacolt & Chelatchie Prairie Railroad

[Docket Number FRA-2000-8365]

The Battle Ground, Yacolt & Chelatchie Prairie Railroad has petitioned for a permanent waiver of compliance for (4) four cabooses, specifically BYCX 991, 992, 993 and 994 (AAR designation pending) from the requirements of Safety Glazing Standards, 49 CFR § 223.13 (c) and (d). Section 223.13(c) states, “except for yard cabooses and cabooses equipped as described in paragraphs (a) and (b), cabooses built or rebuilt prior to July 1, 1880, shall be equipped with certified glazing in all windows after June 30, 1984.” Section 223.13(d) requires each caboose subject to the requirements of paragraph (c) of this section, which as a result of an act of vandalism, has a window that is broken or damaged so that the window fails to permit good visibility shall be equipped with certified glazing * * *

The former BN cabooses were acquired for excursion service that will operate at speeds not to exceed 15 miles per hour through a rural wooded area with no highway overpasses. As a result of vandalism these cabooses have several windows missing or damaged that the petitioner intends to replace with automobile safety glazing.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2000-8365) and must be submitted in triplicate to the Docket Clerk, DOT Central Docket Management Facility, Room P1-401, Washington, DC 20590-0001. Communications received within 45 days of the date of this notice will be considered by FRA before final action is taken. Comments received after that date will be considered as far as practicable. All written communication concerning these proceedings are available for examination during regular business hours (9:00 a.m.-5:00 p.m.) at DOT Central Docket Management Facility, Room P1-401 (Plaza Level), 400 7th Street, SW., Washington, DC. All documents in the public docket are available for inspection and copying on the internet at the docket facility's WEB site at http://dms.dot.gov.

Issued in Washington, DC on March 14, 2001.
Grady C. Cothen, Jr.,
Deputy Associate Administrator for Safety Standards and Program Development.

[FR Doc. 01-7069 Filed 3-21-01; 8:45 am]

BILLING CODE 4910-06-P